NUCLEAR REGULATORY COMMISSION

10 CFR Part 51

[NRC-2012-0246]

RIN 3150-AJ20

Proposed Waste Confidence Rule and Draft Generic Environmental Impact Statement

AGENCY: Nuclear Regulatory Commission.

ACTION: Public meetings.

SUMMARY: The U.S. Nuclear Regulatory Commission (NRC) plans to hold public meetings to receive public comments on its forthcoming proposed amendments to the NRC's regulations pertaining to the environmental impacts of the continued storage of spent nuclear fuel beyond a reactor's licensed life for operation and prior to ultimate disposal (proposed Waste Confidence rule). In addition, the NRC will receive public comment on its forthcoming draft generic environmental impact statement (DGEIS), NUREG-2157, “Waste Confidence Generic Environmental Impact Statement,” that forms the regulatory basis for the proposed amendments. The meetings are open to the public, and anyone may attend. The NRC is issuing this notice in advance of the release of the proposed Waste Confidence rule and DGEIS in order to maximize public participation at these meetings and ensure that as many parties as possible are able to attend.

DATES: The NRC plans to hold public meetings in October and November 2013 during a planned, 75-day public comment period for the proposed Waste Confidence rule and DGEIS. This document contains specific meeting information in the SUPPLEMENTARY INFORMATION section.

ADDRESSES: Please refer to Docket ID NRC-2012-0246 when contacting the NRC about the availability of information for the proposed Waste Confidence rule and DGEIS. You may access publicly available information related to these documents by any of the following methods:

• Federal Rulemaking Web site: Go to http://www.regulations.gov and search for Docket ID NRC-2012-0246.

• NRC's Waste Confidence Web site: Go to http://www.nrc.gov/waste/spent-fuel-storage/wcd.html.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's PDR reference staff at 1-800-397-4209, 301-415-4737, or by email to pdr.resource@nrc.gov. The DGEIS is not yet finalized, but will be available in ADAMS under Accession No. ML13224A106 before the public meetings. An additional Federal Register notice will be published to announce when the DGEIS is available.

• NRC's PDR: You may examine and purchase copies of public documents at the NRC's PDR, Room O1-F21, One White Flint North, 11555 Rockville Pike, Rockville, Maryland 20852.

FOR FURTHER INFORMATION CONTACT: Sarah Lopas, Office of Nuclear Material Safety and Safeguards, U.S. Nuclear Regulatory Commission, Washington, DC 20555-0001; telephone: 301-287-0675; email: Sarah.Lopas@nrc.gov.

SUPPLEMENTARY INFORMATION: As part of the public comment process, the NRC plans to hold 12 transcribed public meetings during the public comment period to solicit comments on the proposed Waste Confidence rule and DGEIS. The NRC plans to publish the proposed Waste Confidence rule and DGEIS in September 2013, and it will issue a notice of availability for the proposed rule and the DGEIS in the Federal Register at that time.

The proposed Waste Confidence rule would amend the NRC's regulations pertaining to the environmental impacts of the continued storage of spent nuclear fuel beyond a reactor's licensed life for operation and prior to ultimate disposal. The DGEIS forms the regulatory basis for the proposed amendments in the Waste Confidence rule. The DGEIS examines the potential environmental impacts that could occur as a result of the continued storage of spent nuclear fuel at at-reactor and away-from-reactor sites until a repository is available. The DGEIS provides generic environmental impact determinations that would be applicable to a wide range of existing and potential future spent fuel storage sites. While some site-specific information is used in developing the generic impact determinations, the Waste Confidence DGEIS does not replace the environmental analysis, performed pursuant to the National Environmental Policy Act, associated with any individual site licensing action.

The NRC staff plans to hold the following public meetings during the planned, 75-day public comment period to present an overview of the DGEIS and proposed Waste Confidence rule and to accept public comments on the documents.

• October 1, 2013: NRC Headquarters, One White Flint North, First Floor Commission Hearing Room, 11555 Rockville Pike, Maryland 20852.

• October 3, 2013: Crowne Plaza Denver International Airport Convention Center, 15500 East 40th Ave., Denver, Colorado 80239.

• October 7, 2013: Courtyard by Marriott, 1605 Calle Joaquin Road, San Luis Obispo, California 93405.

• October 9, 2013: Sheraton Carlsbad Resort & Spa, 5480 Grand Pacific Drive, Carlsbad, California 92008.

• October 15, 2013: Hilton Garden Inn Toledo Perrysburg, 6165 Levis Commons Blvd., Perrysburg, Ohio, 43551.

• October 17, 2013: Minneapolis Marriott Southwest, 5801 Opus Parkway, Minnetonka, Minnesota 55343.

• October 28, 2013: Radisson Hotel & Suites Chelmsford-Lowell, 10 Independence Drive, Chelmsford, Massachusetts 01824.

• October 30, 2013: Westchester Marriott, 670 White Plains Road, Tarrytown, New York 10591.

• November 4, 2013: Hilton Charlotte University Place, 8629 J.M. Keynes Drive, Charlotte, North Carolina 28262.

• November 6, 2013: Hyatt Regency Orlando—International Airport, 9300 Jeff Fuqua Boulevard, Orlando, Florida 32827.

• November 14, 2013: NRC Headquarters, One White Flint North, First Floor Commission Hearing Room, 11555 Rockville Pike, Maryland 20852.

• In addition to the meetings listed above, the NRC staff intends to hold a meeting during the comment period in Illinois. Although the exact date and venue have yet to be arranged, the NRC staff will provide this information well in advance of the meeting.

The ten regional public meetings will start at 7:00 p.m. local time and will continue until 10:00 p.m. local time. The two NRC headquarters meetings will start at 2:00 p.m. Eastern Time and will continue until 5:00 p.m. Eastern Time. Additionally, NRC staff will host informal discussions during an open house 1 hour prior to the start of each meeting. Open houses will start at 6:00 p.m. local time for regional meetings and 1:00 p.m. Eastern Time for the NRC Headquarters meetings.

To maximize the time for comment, the NRC staff will only be available to answer specific questions on the Waste Confidence rule or DGEIS during the open house. The public meetings will be transcribed and will include: (1) A presentation of the contents of the DGEIS and proposed Waste Confidence rule; and (2) the opportunity for government agencies, organizations, and individuals to provide comments on the DGEIS and proposed rule. No oral comments on the DGEIS or proposed Waste Confidence rule will be accepted during the open house sessions. To be considered, oral comments must be presented during the transcribed portion of the public meeting. The NRC staff will also accept written comments at any time during the public meetings.

Persons interested in presenting oral comments at any of the 12 public meetings are encouraged to pre-register. Persons may pre-register to present oral comments by calling 301-287-9392 or by emailing WCRegistration@nrc.gov no later than 3 days prior to the meeting. Members of the public may also register to provide oral comments in-person at each meeting. Individual oral comments may be limited by the time available, depending on the number of persons who register.

If special equipment or accommodations are needed to attend or present information at a public meeting, the need should be brought to the NRC's attention no later than 10 days prior to the meeting to provide the NRC staff adequate notice to determine whether the request can be accommodated. To maximize public participation, the NRC headquarters meetings on October 1, 2013, and November 14, 2013, will be Web-streamed via the NRC's public Web site. See the NRC's Live Meeting Webcast page to participate: http://video.nrc.gov/. The NRC headquarters meetings will also feature a moderated teleconference line so remote attendees will have the opportunity to present oral comments. To receive the teleconference number and passcode, call 301-287-9392 or email WCRegistration@nrc.gov. Meeting agendas and participation details will be available on the NRC's Waste Confidence Public Involvement Web site at http://www.nrc.gov/waste/spent-fuel-storage/wcd/pub-involve.html and on the NRC's Public Meeting Schedule Web site at http://www.nrc.gov/public-involve/public-meetings/index.cfm no later than 10 days prior to the meetings.

Dated at Rockville, Maryland, this 30th day of August 2013.
For the Nuclear Regulatory Commission.
Keith I. McConnell,
Director, Waste Confidence Directorate, Office of Nuclear Material Safety and Safeguards.

[FR Doc. 2013-21710 Filed 9-5-13; 8:45 am]

BILLING CODE 7590-01-P